DEPARTMENT OF ENERGY

Federal Energy Regulatory Commission

[Docket No. RP05-372-000]

Tennessee Gas Pipeline Company and Dartmouth Power Associates Limited Partnership; Notice of Joint Petition for Expedited Grant of Limited Waivers

June 10, 2005.

Take notice that on June 7, 2005, Tennessee Gas Pipeline Company (Tennessee) and Dartmouth Power Associates Limited Partnership (Dartmouth Power) tendered for filing a joint petition for expedited grant of limited waivers.

Tennessee and Dartmouth Power petition the Commission for a grant of a limited waiver, to the extent required, of (i) certain of Tennessee's capacity release tariff provisions, and (ii) the Commission's Order No. 636-A policy regarding the “tying” of gas delivery contracts to released transportation capacity. Tennessee states that the requested waivers will enable Dartmouth Power to effectuate the permanent transfer of its portfolio of transportation capacity and dependent gas delivery contracts to Dartmouth Power's prearranged replacement shipper or to some other third-party replacement shipper who may prevail in the capacity release bidding process. Petitioners further request expedited action on the requested waivers no later than June 30, 2005, so that the transportation releases may be made effective as rapidly thereafter as possible.

Tennessee and Dartmouth Power states that copies of the filing has been served on Tennessee's jurisdictional customers and upon affected state regulatory commissions.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the date indicated below. Anyone filing an intervention or protest must serve a copy of that document on the Applicant. Anyone filing an intervention or protest on or before the intervention or protest date need not serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Intervention and Protest Date: 5 p.m. Eastern Time June 17, 2005.

Magalie R. Salas,
Secretary.

[FR Doc. E5-3123 Filed 6-16-05; 8:45 am]

BILLING CODE 6717-01-P